DEPARTMENT OF HEALTH AND HUMAN SERVICES

Centers for Disease Control and Prevention

Draft Guideline for Prevention of Healthcare-associated Pneumonia, 2003

AGENCY: Centers for Disease Control and Prevention (CDC), Department of Health and Human Services (DHHS).

ACTION: Notice of availability and request for public comment.

SUMMARY: This notice is a request for review of and comment on the Draft Guideline for Prevention of Healthcare-associated Pneumonia, 2003, available on the CDC Web site at www.cdc.gov/ncidod/hip/pnguide.htm. The guideline has been developed for practitioners who provide care for patients and who are responsible for monitoring and preventing infections in healthcare settings. The guideline replaces the Guideline for Prevention of Nosocomial Pneumonia, published in 1994.

DATES: Comments on the Draft Guideline for Prevention of Healthcare-associated Pneumonia, 2003, must be received in writing on or before October 18, 2002.

FOR FURTHER INFORMATION CONTACT: Requests for copies of the Draft Guideline for Prevention of Healthcare-associated Pneumonia, 2003, should be submitted to the Resource Center, Attention: PNGuide, Division of Healthcare Quality Promotion, CDC, Mailstop E-68, 1600 Clifton Rd., NE, Atlanta, Georgia 30333; fax 404 498-1244; e-mail: pnrequests@cdc.gov; or Internet: www.cdc.gov/ncidod/hip/pnguide.htm.

ADDRESSES: Comments on the Draft Guideline for Prevention of Healthcare-associated Pneumonia, 2003, should be submitted to the Resource Center, Attention: PNGuide, Division of Healthcare Quality Promotion, CDC, Mailstop E-68, 1600 Clifton Road, NE, Atlanta, Georgia 30333; fax 404 498-1244; e-mail: pncomments@cdc.gov; or Internet: www.cdc.gov/ncidod/hip/pnguide.htm.

SUPPLEMENTARY INFORMATION: The Draft Guideline for Prevention of Healthcare-associated Pneumonia, 2003, addresses the prevention and control of healthcare-associated bacterial pneumonia, especially ventilator-associated pneumonia; Legionnaire's disease; pertussis; invasive pulmonary aspergillosis; viral pneumonia; respiratory syncytial virus infection; parainfluenza; adenovirus infection; and influenza. Part I discusses the epidemiology, diagnosis, pathogenesis, modes of transmission, and prevention and control of the diseases listed above. Part II contains the consensus recommendations of the Healthcare Infection Control Practices Advisory Committee (HICPAC) and addresses such issues as education of healthcare personnel regarding the prevention and control of healthcare-associated pneumonia and other lower respiratory tract diseases and measures to prevent person-to-person transmission of each disease.

HICPAC was established in 1991 to provide advice and guidance to the Secretary and the Assistant Secretary for Health, DHHS; the Director, CDC; and the Director, National Center for Infectious Diseases, regarding the practice of infection control and strategies for surveillance, prevention, and control of healthcare-associated infections in U.S. healthcare facilities. The committee advises CDC on guidelines and other policy statements regarding prevention of healthcare-associated infections and related adverse events.

Dated: August 27, 2002.
James D. Seligman,
Associate Director for Program Services, Centers for Disease Control and Prevention.

[FR Doc. 02-22309 Filed 8-30-02; 8:45 am]

BILLING CODE 4163-18-P